DEPARTMENT OF AGRICULTURE

Food Safety and Inspection Service

[Docket No. 04-018N]

Workshops

AGENCY: Food Safety and Inspection Service, USDA.

ACTION: Notice.

SUMMARY: The Food Safety and Inspection Service (FSIS) is holding a series of workshops from May through September, 2004, to discuss Revision 1 of Directive 10,010.1, “Microbiological Testing Program and Other Verification Activities for Escherichia coli O157:H7 (E. coli O157:H7) in Raw Ground Beef Products and Raw Ground Beef Components and Beef Patty Components.” This directive provides FSIS inspection personnel with instructions for sampling raw beef products as part of verification testing for E. coli O157:H7. It also outlines actions FSIS will take when a raw ground beef product sample is found to be positive for E. coli O157:H7. Directive 5000.2, “Review of Establishment Data by Inspection Program Personnel” and Directive 6420.2, “Verification of Procedures for Controlling Fecal Material, Ingesta, and Milk in Slaughter Operations” will also be discussed. Directive 5000.2 states that FSIS will review plant food safety records at least once a week. Directive 6420.2 clarifies FSIS zero tolerance policies and verification methods. The meetings are targeted to small and very small plant owner/operators. The first meeting was held in Toledo, Ohio, on May 22, 2004. State inspection personnel and other industry representatives are encouraged to attend. Each meeting will include opportunities for the attendees to ask questions of FSIS representatives.

DATES: Further information on these workshops will be announced on the FSIS Web site, http://www.fsis.usda.gov, and through the Constituent Update; see Additional Public Notification below.

The upcoming workshops are:

• Los Angeles, California on June 5

• Miami, Florida on June 12

• San Antonio, Texas on June 19

• Boulder, Colorado on June 26

• New York, New York on July 10

• Sacramento, California on July 17

• St. Louis, Missouri on July 24

• Montgomery, Alabama on July 31

• Philadelphia, Pennsylvania on August 28

• Amarillo, Texas on September 11

ADDRESSES: Information on specific sites will be provided through the FSIS Web site and Constituent Update. FSIS highly recommends that attendees pre-register for the workshops. To pre-register for a workshop attendees can call toll free at 1-866-553-3052 or call 202-690-6520 or send an e-mail to renee.ellis@fsis.usda.gov.

A tentative agenda will be available in the FSIS Docket Room and on the Web site.

FOR FURTHER INFORMATION CONTACT: Ms. Sheila Johnson of the FSIS Strategic Initiatives, Partnerships and Outreach Staff at (202) 690-6498. If a sign language interpreter or other special accommodation is required, please contact Ms. Johnson at least two days before the workshop.

For technical information, please contact Ms. Mary Cutshall, Director, Strategic Initiatives, Partnerships and Outreach Staff, Office of Public Affairs, Education and Outreach, at (202) 690-6520.

SUPPLEMENTARY INFORMATION:

Background

Non-intact raw beef products and intact raw beef products intended for processing into non-intact products that are contaminated with E. coli O157:H7 are adulterated. The revised Directive 10,010.1, which sets out the FSIS verification sampling program for E.coli O157:H7, focuses on raw ground beef products and the beef products that are used to produce raw ground beef products. The directive also discusses the significance of a finding that a sample is “presumptive positive” and the disposition of products that test positive for E. coli O157:H7.

Directive 6420.2 covers FSIS verification procedures for meat and poultry. Directive 5000.2 pertains to review of industry food safety records.

Additional Public Notification

Public awareness of all segments of rulemaking and policy development is important. Consequently, in an effort to ensure that the public, and in particular minorities, women, and persons with disabilities, are aware of this notice, FSIS will announce it on-line through the FSIS Web page located at http://www.fsis.usda.gov.

The notice will also be published at the Regulations.gov Web site, the central online rulemaking portal of the United States government. Regulations.gov is offered as a public service to increase participation in the Federal government's regulatory activities. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, farm and consumer interest groups, allied health professionals, scientific professionals, and other individuals who have requested to be included. The update also is available on the FSIS Web page. Through Listserv and the Web page, FSIS is able to provide information to a much broader, more diverse audience.

Done at Washington, DC, on May 28, 2004.
Barbara J. Masters,
Acting Administrator.

[FR Doc. 04-12581 Filed 6-2-04; 8:45 am]

BILLING CODE 3410-DM-P